DEPARTMENT OF ENERGY

Federal Energy Regulatory Commission

[Docket No. CP03-16-000]

Southern Natural Gas Company; Notice of Request Under Blanket Authorization

November 27, 2002.

Take notice that on November 22, 2002, Southern Natural Gas Company (Southern), Post Office Box 2563, Birmingham, Alabama 35202-2563, filed in Docket No. CP03-16-000 a request pursuant to sections 157.205 and 157.211 of the Commission's Regulations (18 CFR 157.205 and 157.211) under the Natural Gas Act (NGA) for authorization to construct and operate a new delivery point for service to DSM Chemicals North America, Inc. (DSM) under Southern's blanket certificate issued in Docket No. CP82-406-000, pursuant to Section 7 of the NGA, all as more fully set forth in the application which is on file with the Commission and open to public inspection. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659.

Southern requests authorization to construct and operate certain measurement and appurtenant facilities in order to provide transportation service to DSM at the DSM Chemicals Plant in Richmond County, Georgia. Southern proposes to construct the facilities, consisting of one 6-inch turbine meter and tie-in piping, electric custody transfer equipment, dual 6-inch taps and other appurtenant facilities, on its 16-inch South Main and South Main Loop Lines in Richmond County, Georgia. Southern estimates the average annual volumes for delivery to DSM at 9 Bcf, and estimates the daily average at 24,658 Mcf, with a maximum of 31,200 Mcf per day. Southern proposes to provide transportation service to DSM under Southern's Rate Schedules FT and IT pursuant to existing service agreements. The cost of the facilities is estimated at $299,200, and it is stated that DSM will reimburse Southern for the cost of constructing and installing the proposed facilities.

Any questions regarding the application may be directed to Ernest Bates, Counsel, at (205) 325-7115.

Any person or the Commission's staff may, within 45 days after issuance of the instant notice by the Commission, file pursuant to Rule 214 of the Commission's Procedural Rules (18 CFR 385.214) a motion to intervene or notice of intervention and pursuant to section 157.205 of the Regulations under the NGA (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the NGA. Comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-30708 Filed 12-3-02; 8:45 am]

BILLING CODE 6717-01-P